DEPARTMENT OF ENERGY

Federal Energy Regulatory Commission

[Docket No. RP00-531-000]

Questar Pipeline Company; Notice of Proposed Changes in FERC Gas Tariff

September 7, 2000.

Take notice that on August 31, 2000, Questar Pipeline Company (Questar) tendered for filing as part of its FERC Gas Tariff, the following tariff sheets, with an effective date of October 1, 2000:

First Revised Volume No. 1

Sixteenth Revised Sheet No. 5

Tenth Revised Sheet No. 6

Original Volume No. 3

Twenty-Fifth Revised Sheet No. 8

Questar states that this filing incorporates into its storage and transportation rates the annual charge adjustment (ACA) unit rate of $0.00219 per Dth.

Questar states that this filing were served upon Questar's customers, the Public Service Commission of Utah and the Public Service Commission of Wyoming.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-23439 Filed 9-12-00; 8:45 am]

BILLING CODE 6717-01-M